DEPARTMENT OF HEALTH AND HUMAN SERVICES

Centers for Disease Control and Prevention

Advisory Committee to the Director, Centers for Disease Control and Prevention, (ACD, CDC)

In accordance with section 10(a)(2) of the Federal Advisory Committee Act (Pub. L. 92-463), the CDC announces the following meeting of the aforementioned committee:

Time and Date: 6 p.m.-7 p.m., March 4, 2009.

Place: The teleconference call will originate at the CDC. Details on accessing the teleconference are located in the supplementary information.

Status: Open to the public, teleconference access limited only by availability of telephone ports.

Purpose: The committee will provide advice to the Director, CDC on strategic and other broad issues facing CDC.

Matters To Be Discussed: During this conference call, the National Biosurveillance Advisory Subcommittee (NBAS) will provide recommendations to the ACD, CDC for transmittal to the administration. Since the NBAS was created in May, 2008, the subcommittee has been on a very aggressive timeline in order to provide the administration with key recommendations for improving the nation's biosurveillance capability. In order for these recommendations to go through the proper clearance steps and still be timely and relevant for the administration, the ACD, CDC must review and approve these recommendations as soon as possible. The NBAS was originally scheduled to present these recommendations to the ACD, CDC at the meeting scheduled for February 24, 2009.

Agenda items are subject to change as priorities dictate.

SUPPLEMENTARY INFORMATION: This conference call is scheduled to begin at 6 p.m. Eastern Standard Time. To participate in the teleconference, please dial 1-888-323-9787 and enter conference code 4735949.

Contact Person for More Information: Brad Perkins, M.D., M.B.A., Designated Federal Officer, ACD, CDC, 1600 Clifton Road, NE., M/S D-14, Atlanta, Georgia 30333. Telephone: 404-639-7000.

The ACD, CDC was scheduled to meet by conference call on February 24, 2009. The meeting was postponed on short notice because of quorum guidelines. The meeting is re-scheduled for March 4, 2009, at 6 p.m., as this is the only available time to gather a quorum of the ACD members.

This notice is being published less than 15 days prior to the meeting due to the scheduling difficulties encountered when planning the meeting, and due to the urgent nature of transmitting the recommendations to the administration.

The Director, Management Analysis and Services office has been delegated the authority to sign Federal Register notices pertaining to announcements of meetings and other committee management activities for both the CDC and the Agency for Toxic Substances and Disease Registry.

Andre Tyler,
Acting Director, Management Analysis and Services Office, Centers for Disease Control and Prevention (CDC).

[FR Doc. E9-4940 Filed 3-4-09; 4:15 pm]

BILLING CODE 4163-18-P